FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Golden Jet—L.A., Inc. dba Golden Jet Freight Forwarders (NVO), 145-30 156th Street, Suite E, Jamaica, NY 11434, Officer: Clifford J. Ivie, President/Vice President (Qualifying Individual), Application Type: New NVO License.

Joffroy Warehouse Inc. (NVO), 1251 N. Industrial Park Avenue, Nogales, AZ 85621, Officers: Marco A. Joffroy, Compliance Officer (Qualifying Individual), Rodolfo Joffroy, President, Application Type: New NVO License.

Maritime and Intermodal Logistics Systems, Inc. dba MILS dba Fesco Integrated Transport (NVO & OFF), 1000 Second Avenue, Suite 1310, Seattle, WA 98104, Officers:Junko Altman, Secretary (Qualifying Individual), Mike Evans, President, Application Type: Trade Name Change.

Nippon Express U.S.A. (Illinois), Inc. (NVO & OFF), 950 N. Edgewood Avenue, Wood Dale, IL 60191-1257, Officers:Michiya Shimizu, Senior Vice President/General Manager (Qualifying Individual), Kenryo Senda, President/CEO, Application Type: QI Change.

Praxis SCM, LLC (NVO & OFF), 5725 Paradise Drive, #1000, Corte Madera, CA 94925, Officers:George W. Pasha, IV, President/CEO (Qualifying Individual), James Britton, CFO, Application Type: New NVO & OFF License.

Rado International, Inc. dba Rado Logistics (NVO & OFF), 2251 Sylvan Road, Suite C, East Point, GA 30344, Officers:Lovett Brooks, CEO (Qualifying Individual), Maria Caceres, Secretary, Application Type: Add Trade Name.

Renaissance Global Logistics LLC (NVO & OFF), 4333 West Fort Street, Detroit, MI 48209, Officers:Kathleen M. Green, Vice President Logistics Services (Qualifying Individual), John James, CEO, Application Type: New NVO & OFF License.

Rose Containerline, Inc. dba Fabius Containerline (NVO), 259 West 30th Street, New York, NY 10001, Officer:Neal M. Rosenberg, President (Qualifying Individual), Application Type: Remove Trade Name.

Sea Cargo Inc. (NVO), 19130 Figueroa Street, Carson, CA 90248, Officers:Shane J. Kennedy, Secretary/Chief Financial Officer (Qualifying Individual), Andrei V. Pilipenko, Chief Executive Officer, Application Type: New NVO License.

Sea Horse Express Inc. (OFF), 1250 Newark Turnpike, 1st Floor, Kearny, NJ 07032, Officer:Desiree Herrera, President/Vice President/Secretary (Qualifying Individual), Application Type: New OFF License.

Tricon Container Line, LLC (NVO & OFF), 259 West 30th Street, New York, NY 10001, Officers:Neal M. Rosenberg, Member/Manager (Qualifying Individual), Joshua Rosenberg, Manager, Application Type: New NVO & OFF License.

USTC Global, Inc. (NVO), 20695 S. Western Avenue, #132, Torrance, CA 90501, Officers:Hyunmo (A.K.A. Sean) Yang, Secretary (Qualifying Individual), Michelle Suh, President/CEO, Application Type: New NVO License.

Valueway Global Logistics Inc. (NVO & OFF), 136-56 39th Avenue, Suite 406, Flushing, NY 11354, Officers:Zong (David) W. Chen, Vice President (Qualifying Individual), Qian (Arthur) Xie, President/Secretary/Treasurer, Application Type: New NVO & OFF License.

Dated: August 6, 2010.
Karen V. Gregory,
Secretary.

[FR Doc. 2010-19860 Filed 8-10-10; 8:45 am]

BILLING CODE 6730-01-P